CONSUMER PRODUCT SAFETY COMMISSION

Sunshine Act Meeting

TIME AND DATE: Wednesday September 14, 2016, 9:30 a.m.-10:30 a.m.

PLACE: Hearing Room 420, Bethesda Towers, 4330 East West Highway, Bethesda, Maryland.

STATUS: Commission Meeting—Open to the Public.

Matter To Be Considered: Decisional Matter: Changing Tables: Notice of Proposed Rulemaking.

A live webcast of the Meeting can be viewed at www.cpsc.gov/live.

TIME AND DATE: Wednesday, September 14, 2016; 10:45 a.m.-1:00 p.m.

PLACE: Hearing Room 420, Bethesda Towers, 4330 East West Highway, Bethesda, Maryland.

STATUS: Commission Meeting—Closed to the Public.

Matter To Be Considered: Compliance Matters: The Commission staff will brief the Commission on the status of various compliance matters.

CONTACT PERSON FOR MORE INFORMATION: Todd A. Stevenson, Office of the Secretary, U.S. Consumer Product Safety Commission, 4330 East West Highway, Bethesda, MD 20814, (301) 504-7923.

Dated: September 6, 2016.
Todd A. Stevenson,
Secretariat.

[FR Doc. 2016-21807 Filed 9-7-16; 11:15 am]

BILLING CODE 6355-01-P